DEPARTMENT OF THE INTERIOR

National Park Service

[NPS-WASO-NAGPRA-NPS0031389; PPWOCRADN0-PCU00RP14.R50000]

Notice of Intent To Repatriate Cultural Items: Geneva Historical Society, Geneva, NY

AGENCY: National Park Service, Interior.

ACTION: Notice.

SUMMARY: The Geneva Historical Society, in consultation with the appropriate Indian Tribes or Native Hawaiian organizations, has determined that one cultural item listed in this notice meets the definition of unassociated funerary object and 103 cultural items listed in this notice meet the definition of objects of cultural patrimony. Lineal descendants or representatives of any Indian Tribe or Native Hawaiian organization not identified in this notice that wish to claim these cultural items should submit a written request to the Geneva Historical Society. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Geneva Historical Society at the address in this notice by March 1, 2021.

ADDRESSES: Kerry Lippincott, Geneva Historical Society, 543 South Main Street, Geneva, NY 14456, telephone (315) 789-5151, email director@genevahistoricalsociety.com.

SUPPLEMENTARY INFORMATION: Notice is here given in accordance with the Native American Graves Protection and Repatriation Act (NAGPRA), 25 U.S.C. 3005, of the intent to repatriate cultural items under the control of the Geneva Historical Society, Geneva, NY, that meet the definition of unassociated funerary objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the mid-1800s, 104 cultural items were removed from White Springs Farm, Ontario County, NY. According to printed accounts, two burial mounds near the farm's manor house were disturbed around 1840, when the land was graded for a lawn and roadway. The artifacts stayed with the farm and were transferred to subsequent owners until Mrs. Katherine Lewis purchased the property in 1898. Lewis kept the artifacts in her family. In 1962, her daughter, Mrs. Henry Wheat, loaned them to the Geneva Historical Society, and in 1978, the Wheats converted the loan to a gift. The one unassociated funerary object is a wooden hair comb. The 103 objects of cultural patrimony are 90 assorted beads of bloodstone, glass, shell, bone, and clay; one rifle trigger; two metal trade arrowheads; two metal fragments; three metal buttons; four 17th-century religious trade medals; and one clay pipe.

There is archeological evidence to show that from around 1688 to 1715, the Seneca town of Ganechstage was located in proximity to White Springs Farm. During consultation, the Seneca Nation of Indians identified the hair comb as a funerary object. Given the location and time period, the other items are consistent with Seneca production and European trade goods.

Determinations Made by the Geneva Historical Society

Officials of the Geneva Historical Society have determined that:

• Pursuant to 25 U.S.C. 3001(3)(B), the one cultural item described above is reasonably believed to have been placed with or near individual human remains at the time of death or later as part of the death rite or ceremony and are believed, by a preponderance of the evidence, to have been removed from a specific burial site of a Native American individual.

• Pursuant to 25 U.S.C. 3001(3)(D), the 103 cultural items described above have ongoing historical, traditional, or cultural importance central to the Native American group or culture itself, rather than property owned by an individual.

• Pursuant to 25 U.S.C. 3001(2), there is a relationship of shared group identity that can be reasonably traced between the unassociated funerary object, and objects of cultural patrimony and the Seneca Nation of Indians (previously listed as Seneca Nation of New York).

Additional Requestors and Disposition

Lineal descendants or representatives of any Indian Tribe or Native Hawaiian organization not identified in this notice that wish to claim these cultural items should submit a written request with information in support of the claim to Kerry Lippincott, Geneva Historical Society, 543 South Main Street, Geneva, NY 14456, telephone (315) 789-5151, email director@genevahistoricalsociety.com, by March 1, 2021. After that date, if no additional claimants have come forward, transfer of control of the unassociated funerary object and objects of cultural patrimony to the Seneca Nation of Indians (previously listed as Seneca Nation of New York) may proceed.

The Geneva Historical Society is responsible for notifying the Seneca Nation of Indians (previously listed as Seneca Nation of New York) that this notice has been published.

Dated: January 14, 2021.
Melanie O'Brien,
Manager, National NAGPRA Program.

[FR Doc. 2021-01899 Filed 1-27-21; 8:45 am]

BILLING CODE 4312-52-P